DEPARTMENT OF DEFENSE

Office of the Secretary

Notice of Intent To Grant an Exclusive License; Voltage Networking, LLC; Correction

AGENCY: National Security Agency, Department of Defense (DoD).

ACTION: Notice; correction.

SUMMARY: On November 10, 2011 (76 FR 70117-70118), DoD published a notice titled Notice of Intent to Grant an Exclusive License; Voltage Networking, LLC. In the SUMMARY section, in the fourth line, the word “non-assignable” was incorrectly published. This notice corrects that error.

FOR FURTHER INFORMATION CONTACT: Marian T. Roche, Director, Technology Transfer Program, 9800 Savage Road, Suite 6541, Fort George G. Meade, MD 20755-6541, telephone (443) 479-9569.

SUPPLEMENTARY INFORMATION: On November 10, 2011, DoD published a notice titled Notice of Intent to Grant an Exclusive License; Voltage Networking, LLC. Subsequent to the publication of that notice, DoD discovered that the word “non-assignable” in the fourth line of the SUMMARY section had been inadvertently published.

Correction

In the notice (FR Doc. 2011-29064) published on November 10, 2011 (76 FR 70117-70118), make the following correction. On page 70117, in the third column, in the SUMMARY section, beginning in the first line, the text “The National Security Agency hereby gives notice of its intent to grant Voltage Networking, LLC a revocable, non-assignable, exclusive, license to practice the following Government-Owned inventions as described in the following:” should read “The National Security Agency hereby gives notice of its intent to grant Voltage Networking, LLC a revocable exclusive license to practice the following Government-Owned inventions as described in the following:”.

Dated: December 14, 2011.
Aaron Siegel,
Alternate OSD Federal Register Liaison Officer, Department of Defense.

[FR Doc. 2011-32405 Filed 12-16-11; 8:45 am]

BILLING CODE 5001-06-P